DEPARTMENT OF THE INTERIOR

National Park Service

[NPS-WASO-NAGPRA-NPS0029074; PPWOCRADN0-PCU00RP14.R50000]

Notice of Inventory Completion: Department of Anthropology, San Jose State University, San Jose, CA

AGENCY: National Park Service, Interior.

ACTION: Notice.

SUMMARY: The Department of Anthropology at San Jose State University has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Department of Anthropology, San Jose State University. If no additional requestors come forward, transfer of control of the human remains and associated funerary objects to the lineal descendants, Indian Tribes, or Native Hawaiian organizations stated in this notice may proceed.

DATES: Lineal descendants or representatives of any Indian tribe or Native Hawaiian organization not identified in this notice that wish to request transfer of control of these human remains and associated funerary objects should submit a written request with information in support of the request to the Department of Anthropology, San Jose State University at the address in this notice by December 9, 2019.

ADDRESSES: Charlotte Sunseri (NAGPRA Coordinator), San Jose State University, Department of Anthropology, Clark Hall 469, 1 Washington Square, San Jose, CA 95192-0113, telephone (408) 924-5710, email charlotte.sunseri@sjsu.edu.

SUPPLEMENTARY INFORMATION: Notice is here given in accordance with the Native American Graves Protection and Repatriation Act (NAGPRA), 25 U.S.C. 3003, of the completion of an inventory of human remains and associated funerary objects under the control of the Department of Anthropology, San Jose State University, San Jose, CA. The human remains and associated funerary objects were removed from site CA-STA-133, Stanislaus County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Department of Anthropology, San Jose State University professional staff in consultation with representatives of the Picayune Rancheria of Chukchansi Indians of California; Santa Rosa Indian Community of the Santa Rosa Rancheria, California; Table Mountain Rancheria (previously listed as the Table Mountain Rancheria of California); Tejon Indian Tribe; and the Tule River Indian Tribe of the Tule River Reservation, California (hereafter referred to as “The Tribes”).

History and Description of the Remains

In 1962-1963, human remains representing, at minimum, two individuals were removed from CA-STA-133 in Stanislaus County, CA. The site was excavated by Leonard J. Foota and San Francisco State University affiliates in 1962, and the human remains were under the control of San Francisco State University until they were donated to San Jose State University on February 15, 1963. The human remains comprise the nearly complete skeleton of a 45 year-old female and a partial skeleton of an unknown individual. The two associated funerary objects are shell beads.

Based on the geographic location of the site within this tribe's historically documented territory, these human remains have been determined to be culturally affiliated with The Tribes.

Determinations Made by the Department of Anthropology, San Jose State University

Officials of the Department of Anthropology, San Jose State University have determined that:

• Pursuant to 25 U.S.C. 3001(9), the human remains described in this notice represent the physical remains of two individuals of Native American ancestry.

• Pursuant to 25 U.S.C. 3001(3)(A), the two objects described in this notice are reasonably believed to have been placed with or near individual human remains at the time of death or later as part of the death rite or ceremony.

• Pursuant to 25 U.S.C. 3001(2), there is a relationship of shared group identity that can be reasonably traced between the Native American human remains and The Tribes.

Additional Requestors and Disposition

Lineal descendants or representatives of any Indian Tribe or Native Hawaiian organization not identified in this notice that wish to request transfer of control of these human remains and associated funerary objects should submit a written request with information in support of the request to Charlotte Sunseri (NAGPRA Coordinator), Department of Anthropology, San Jose State University, Clark Hall 469, 1 Washington Square, San Jose, CA 95192-0113, telephone (408) 924-5710, email charlotte.sunseri@sjsu.edu, by December 9, 2019. After that date, if no additional requestors have come forward, transfer of control of the human remains and associated funerary objects to The Tribes may proceed.

The Department of Anthropology, San Jose State University is responsible for notifying The Tribes that this notice has been published.

Dated: October 4, 2019.
Melanie O'Brien,
Manager, National NAGPRA Program.

[FR Doc. 2019-24394 Filed 11-7-19; 8:45 am]

BILLING CODE 4312-52-P